DEPARTMENT OF JUSTICE

Notice of Lodging Proposed Consent Decree

In accordance with Departmental Policy, 28 CFR 50.7, notice is hereby given that a proposed Consent Decree in United States v. Thomas Staben, et al., Civil Action No. CV-10-4419-JST (FMOx), was lodged with the United States District Court for the Central District of California on December 30, 2011.

This proposed Consent Decree concerns a complaint filed by the United States against Thomas Staben and T.A. Staben, Inc., pursuant to Sections 301 and 309 of the Clean Water Act, 33 U.S.C. 1311 and 1319. The proposed Consent Decree resolves these allegations by requiring the Defendants to restore portions of the impacted area, provide compensatory mitigation, and pay a civil penalty.

The Department of Justice will accept written comments relating to this proposed Consent Decree for thirty (30) days from the date of publication of this Notice. Please address comments to Michael C. Augustini, Trial Attorney, P.O. Box 7611, Washington, DC 20044, and refer to United States v. Thomas Staben, et al., DJ #90-5-1-1-18403.

The proposed Consent Decree may be examined at the Clerk's Office, United States District Court for the Central District of California, 411 West Fourth Street, Room 1053, Santa Ana, California 92701-4516. In addition, the proposed Consent Decree may be viewed at http://www.justice.gov/enrd/Consent_Decrees.html.

Cherie L. Rogers,
Assistant Section Chief, Environmental Defense Section, Environment & Natural Resources Division.

[FR Doc. 2012-207 Filed 1-9-12; 8:45 am]

BILLING CODE P